DEPARTMENT OF COMMERCE

International Trade Administration

(A-122-838; C-122-839)

Notice of Correction to Notice of Final Results of Antidumping Duty Administrative Review and Notice of Final Results of Antidumping Duty Changed Circumstances Review; and Notice of Correction to Notice of Final Results of Countervailing Duty Administrative Review and Rescission of Certain Company-Specific Reviews: Certain Softwood Lumber Products from Canada

AGENCY: Import Administration, International Trade Administration, Department of Commerce.

EFFECTIVE DATE: December 13, 2004

FOR FURTHER INFORMATION CONTACT: James Terpstra (for CVD) or Constance Handley (for AD) at (202) 482-3965 and (202) 482-0631, respectively, AD/CVD Operations, Import Administration, International Trade Administration, U.S. Department of Commerce, Room 4012, 14th Street and Constitution Avenue, N.W., Washington, D.C. 20230.

CORRECTION:

On December 13, 2004, the Department of Commerce (the Department) issued its final results of both the antidumping (AD) and countervailing duty (CVD) administrative reviews of the orders of certain softwood lumber products (subject merchandise) from Canada for the period May 22, 2002, through March 31, 2003 in the CVD review and May 22, 2002, through April 30, 2003, in the AD review. Subsequent to the issuance of the final results, we identified an inadvertent error in both Notices.

In the “Assessment” section of the AD review Notice, the Department indicated that it would “issue appropriate assessment instructions directly to CBP within 15 days of publication of these final results of review.” In the “Final Results of Review “ section of the CVD review Notice, the Department indicated that it would “instruct CBP, within 15 days of publication of the final results of this review, to liquidate shipments of certain softwood lumber products from Canada entered, or withdrawn from warehouse ... .” The “within 15 days of publication” description is incorrect in both Notices. Section19 CFR 356.8 of the applicable regulations provides that the Department shall not order liquidation until the “forty-first day after the date of publication of the notice ...” following an administrative review of merchandise exported from Canada or Mexico. Accordingly, both notices should be corrected to indicate that the Department will send assessment instructions to CBP “on or after the 41st day after publication.”

These corrections are issued and published in accordance with sections 751(h) and 777(i) of the Tariff Act of 1930, as amended.

Dated: December 17, 2004.
James J. Jochum
Assistant Secretary for Import Administration.

[FR Doc. E4-3823 Filed 12-23-04; 8:45 am]

BILLING CODE 6717-01-P